DEPARTMENT OF TRANSPORTATION

Federal Aviation Administration

Notice of Intent To Rule on Application 04-01-C-00-ELM To Impose and Use the Revenue From a Passenger Facility Charge (PFC) at Elmira/Corning Regional Airport, Elmira, NY

AGENCY: Federal Aviation Administration (FAA), DOT.

ACTION: Notice of intent to rule on application.

SUMMARY: The FAA proposes to rule and invites public comment on the application to impose and use the revenue from a PFC at Elmira/Corning Regional Airport under the provisions of the 49 U.S.C. 40117 and part 158 of the Federal Aviation Regulations (14 CFR part 158).

DATES: Comments must be received on or before July 23, 2004.

ADDRESSES: Comments on this application may be mailed or delivered in triplicate to the FAA at the following address: New York Airports District Office, 600 Old County Road, Suite 446, Garden City, New York 11530.

In addition, one copy of any comments submitted to the FAA must be mailed or delivered to Eric M. Johnson, Supervisor of Airport Operations of Chemung County, New York at the following address: Elmira/Corning Regional Airport, 276 Sing Sing Road, Suite 1, Horseheads, New York 14845.

Air carriers and foreign air carriers may submit copies of written comments previously provided to Chemung County, New York under section 158.23 of part 158.

FOR FURTHER INFORMATION CONTACT: Philip Brito, Manager, New York Airports District Office, 600 Old Country Road, Suite 446, Garden City, New York 11530, (516) 227-3800. The application may be reviewed in person at this same location.

SUPPLEMENTARY INFORMATION: The FAA proposes to rule and invites public comment on the application to impose and use the revenue from a PFC at Elmira/Corning Regional Airport under the provisions of the 49 U.S.C. 40117 and part 158 of the Federal Aviation Regulations (14 CFR part 158).

On June 15, 2004, the FAA determined that the application to impose and use the revenue from a PFC submitted by Chemung County, New York was substantially complete within the requirements of section 158.25 of part 158. The FAA will approve or disapprove the application, in whole or in part, no later than October 2, 2004.

The following is a brief overview of the application.

Proposed charge effective date: June 1, 2004.

Proposed charge expiration date: September 1, 2007.

Level of the proposed PFC: $3.00.

Total estimated PFC revenue: $791,873.

Brief description of proposed project(s):

1. Purchase airport sweeper.

2. Rehabilitate and mark Taxiway A, rehabilitate and mark terminal apron.

3. Security vulnerability assessment.

4. Snow removal equipment (SRE) building expansion.

5. Purchase and install passenger boarding bridge.

6. Hazard beacon (obstruction lights) study.

7. Rehabilitate and strengthen Taxiways C, G and H.

8. Construct itinerant aircraft apron.

9. Update/Upgrade airport security access control system.

10. Environmental assessment for the extension of Runway end 6.

11. Install security fence at Schweizer property T-hangar access area and maintenance area.

12. Airfield stormwater drainage study, Phase 1.

13. Rehabilitate Taxiway D.

14. Acquire multi-purpose snow removal equipment.

15. Master plan update.

16. Acquire ARFF command/friction survey vehicle.

17. Runway end 6 extension, Phase 1 (Design).

Class or classes of air carriers which the public agency has requested not be required to collect PFCs: Non-Scheduled/On-Demand Air Carriers filing FAA Form 1800-31.

Any person may inspect the application in person at the FAA office listed above under FOR FURTHER INFORMATION CONTACT and at the FAA regional Airports office located at: Federal Aviation Administration, Airports Division, 1 Aviation Plaza, Jamaica, New York 11434-4809.

In addition, any person may, upon request, inspect the application, notice and other documents germane to the application in person at the Chemung County, New York (Elmira/Corning Regional Airport).

Dated: Issued in Garden City, New York, on June 15, 2004.
Philip Brito,
Manager, New York Airports District Office, Eastern Region.

[FR Doc. 04-14203 Filed 6-22-04; 8:45 am]

BILLING CODE 4910-13-M